DEPARTMENT OF COMMERCE

International Trade Administration

[A-588-850]

Certain Large Diameter Carbon and Alloy Seamless Standard, Line, and Pressure Pipe From Japan: Final Results of Antidumping Duty Administrative Review; 2012-2013

AGENCY: Enforcement and Compliance, International Trade Administration, Department of Commerce.

SUMMARY: On July 23, 2014, the Department of Commerce (the Department) published the preliminary results of the administrative review of the antidumping duty order on certain large diameter carbon and alloy seamless standard, line, and pressure pipe (over 4 ½ inches) from Japan for the period of review (POR) of June 1, 2012 through May 31, 2013. For these final results, we continue to find that Sumitomo Metal Industries, Ltd. (SMI) failed to cooperate to the best of its ability and, accordingly, the Department is applying AFA to SMI. In addition, we find that no shipments were made by JFE Steel Corporation (JFE), Nippon Steel Corporation (Nippon), and NKK Tubes (NKK) during the POR.

DATES: Effective Date: November 17, 2014.

FOR FURTHER INFORMATION CONTACT: Jennifer Meek, AD/CVD Operations, Office 1, Enforcement and Compliance, International Trade Administration, U.S. Department of Commerce, 14th Street and Constitution Avenue NW., Washington, DC 20230; telephone: (202) 482-2778.

Background

On July 23, 2014, the Department published the preliminary results of the administrative review of the antidumping duty order on certain large diameter carbon and alloy seamless standard, line, and pressure pipe from Japan.¹ We invited interested parties to comment on the Preliminary Results. We received no comments. The Department has conducted this administrative review in accordance with section 751(a)(1) of the Tariff Act of 1930, as amended (the Act).

¹ See Certain Large Diameter Carbon and Alloy Seamless Standard, Line, and Pressure Pipe (Over 4½ Inches) from Japan: Preliminary Results of the Antidumping Duty Administrative Review; 2012-2013, 79 FR 42762 (July 23, 2014) (Preliminary Results) and accompanying Preliminary Decision Memorandum.

Scope of the Order

The products covered by the order are large diameter seamless carbon and alloy (other than stainless) steel standard, line, and pressure pipes produced, or equivalent, to the American Society for Testing and Materials (ASTM) A-53, ASTM A-106, ASTM A-333, ASTM A- 334, ASTM A-589, ASTM A-795, and the American Petroleum Institute (API) 5L specifications and meeting the physical parameters described below, regardless of application. The scope of the order also includes all other products used in standard, line, or pressure pipe applications and meeting the physical parameters described below, regardless of specification, with the exception of the exclusions discussed below. Specifically included within the scope of the order are seamless pipes greater than 4.5 inches (114.3 mm) up to and including 16 inches (406.4 mm) in outside diameter, regardless of wall-thickness, manufacturing process (hot finished or cold-drawn), end finish (plain end, beveled end, upset end, threaded, or threaded and coupled), or surface finish.

The seamless pipes subject to the order are currently classifiable under the subheadings 7304.10.10.30, 7304.10.10.45, 7304.10.10.60, 7304.10.50.50, 7304.19.10.30, 7304.19.10.45, 7304.19.10.60, 7304.19.50.50, 7304.31.60.10, 7304.31.60.50, 7304.39.00.04, 7304.39.00.06, 7304.39.00.08, 7304.39.00.36, 7304.39.00.40, 7304.39.00.44, 7304.39.00.48, 7304.39.00.52, 7304.39.00.56, 7304.39.00.62, 7304.39.00.68, 7304.39.00.72, 7304.51.50.15, 7304.51.50.45, 7304.51.50.60, 7304.59.20.30, 7304.59.20.55, 7304.59.20.60, 7304.59.20.70, 7304.59.60.00, 7304.59.80.30, 7304.59.80.35, 7304.59.80.40, 7304.59.80.45, 7304.59.80.50, 7304.59.80.55, 7304.59.80.60, 7304.59.80.65, and 7304.59.80.70 of the Harmonized Tariff Schedule of the United States (HTSUS). Although the HTSUS subheadings are provided for convenience and customs purposes, our written description of the merchandise subject to the scope is dispositive. A full description of the scope of the order is contained in the Preliminary Decision Memorandum.

The Preliminary Decision Memorandum is a public document and is on file electronically via Enforcement and Compliance's Antidumping and Countervailing Duty Centralized Electronic Service System (IA ACCESS). IA ACCESS is available to registered users at http://iaaccess.trade.gov and is available to all parties in the Central Records Unit, room 7046 of the main Department of Commerce building. In addition, a complete version of the Preliminary Decision Memorandum can be accessed directly at http://enforcement.trade.gov/frn/.

Final Determination of No Shipments

We have made no changes to our findings announced in the Preliminary Results. Consistent with our findings in the Preliminary Results,² we find that JFE, Nippon, and NKK had no shipments during the POR.

² See Preliminary Decision Memorandum at 5-10.

Methodology

Also consistent with the Preliminary Results,³ and in accordance with sections 776(a) and (b) of the Act, we relied on facts available with an adverse inference with respect to SMI. Thus, we assign a rate of 107.80 percent as the weighted-average dumping margin for SMI with respect to one of its entries, while we continue to find that SMI had no other shipments during the POR. For a full description of the methodology underlying our conclusions, see the Preliminary Decision Memorandum.

³ Id. at 7-10.

Final Results of Review

We determine that, for the period June 1, 2012, through May 31, 2013, the following dumping margin exists for a certain entry for SMI:

Company | Rate (percent)
Sumitomo Metal Industries, Ltd. | 107.80

Cash-Deposit Requirements

The following deposit requirements are effective for all shipments of the subject merchandise entered, or withdrawn from warehouse, for consumption on or after the publication of the final results of this administrative review, as provided in section 751(a)(1) of the Act: (1) Cash-deposit rate for SMI will be that established in the final results of this review; (2) for previously reviewed or investigated companies not covered in this review, the cash-deposit rate will continue to be the rate published for the most recent period; (3) if the exporter is not a firm covered in this review, a prior review, or the less-than fair-value (LTFV) investigation but the manufacturer is, the cash-deposit rate will be the rate established for the most recent period for the manufacturer of the subject merchandise; (4) if neither the exporter nor the manufacturer is a firm covered in this or any previous segment of the proceeding, the cash deposit rate will continue to be the all-others rate established in the LTFV investigation, which is 68.88 percent.⁴ These cash-deposit requirements, when imposed, shall remain in effect until further notice.

⁴ See Notice of Antidumping Duty Orders: Certain Large Diameter Carbon and Alloy Seamless Standard, Line and Pressure Pipe from Japan; and Certain Small Diameter Carbon and Alloy Seamless Standard, Line and Pressure Pipe From Japan and the Republic of South Africa, 65 FR 39360 (June 26, 2000) (LTFV Investigation).

Assessment Rates

The Department shall determine, and U.S. Customs and Border Protection (CBP) shall assess, antidumping duties on all appropriate entries, in accordance with 19 CFR 351.212. The Department intends to issue assessment instructions to CBP 15 days after the date of publication of these final results of this review.

These final results of this review are the basis for the assessment of antidumping duties on entries of merchandise covered by this review and for future deposits of estimated duties, where applicable.⁵ Where assessments are based upon total facts available, including total AFA, we instruct CBP to assess duties at the AFA margin rate. The Department intends to instruct CBP to assess antidumping duties on the single POR entry of the subject merchandise produced or exported by SMI at the rate of 107.80 percent of the entered value.⁶

⁵ See section 751(a)(2)(C) of the Act.

⁶ See 19 CFR 351.212(b)(1).

The Department clarified its “automatic assessment” regulation on May 6, 2003.⁷ This clarification will apply to all POR entries entered under the case numbers for JFE, Nippon, and NKK, and certain entries entered under the case number for SMI for which we determined SMI demonstrated its certification of no POR shipments. We will instruct CBP to liquidate these entries at the all-others rate established in the LTFV investigation, 68.88 percent,⁸ if there is no rate for the intermediary involved in the transaction. See Assessment Policy Notice for a full discussion of this clarification.

⁷ See Antidumping and Countervailing Duty Proceedings: Assessment of Antidumping Duties, 68 FR 23954 (May 6, 2003) (Assessment Policy Notice).

⁸ See LTFV Investigation.

Notifications

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

This notice also serves as a reminder to parties subject to the administrative protective order (APO) of their responsibility concerning the disposition of proprietary information disclosed under APO in accordance with 19 CFR 351.305(a)(3). Timely notification of the destruction of APO materials or conversion to judicial protective order is hereby requested. Failure to comply with the regulations and the terms of an APO is a sanctionable violation.

We are issuing and publishing these results and this notice in accordance with sections 751(a)(1) and 777(i)(1) of the Act.

Dated: November 7, 2014.
Paul Piquado,
Assistant Secretary for Enforcement and Compliance.

[FR Doc. 2014-27165 Filed 11-14-14; 8:45 am]

BILLING CODE 3510-DS-P